DEPARTMENT OF COMMERCE

National Oceanic and Atmospheric Administration

50 CFR Part 600

[Docket No. 120425420-2420-01]

RIN 0648-BB92

Fisheries of the United States; National Standard 1 Guidelines; Extension of Public Comment Period

AGENCY: National Marine Fisheries Service (NMFS), National Oceanic and Atmospheric Administration (NOAA), Commerce.

ACTION: Advance notice of proposed rulemaking; extension of public comment period.

SUMMARY: NMFS is extending the date by which public comments are due in response to the Advance Notice of Proposed Rulemaking (ANPR) published on May 3, 2012, on potential adjustments to the National Standard 1 Guidelines, one of 10 national standards for fishery conservation and management contained in Section 301 of the Magnuson-Stevens Fishery Conservation and Management Act. NMFS has received a request to extend the comment period for the ANPR beyond its current 90-day comment period, originally scheduled to end on August 1, 2012. With this notice, NMFS is extending the comment period to September 15, 2012, to ensure there is adequate time for stakeholders and members of the public to comment on the ANPR.

DATES: The deadline for receipt of comments on the ANPR published on May 3, 2012 (77 FR 26238), is extended to September 15, 2012.

ADDRESSES: You may submit comments on the referenced ANPR, identified by “NOAA-NMFS-2012-0059”, by any one of the following methods:

• Electronic Submissions: Submit all electronic public comments via the Federal eRulemaking Portal: www.regulations.gov. To submit comments via the e-Rulemaking Portal, first click the “submit a comment” icon, then enter “NOAA-NMFS-2012-0059” in the keyword search. Locate the document you wish to comment on from the resulting list and click on the “Submit a Comment” icon on the right of that line.

• Fax: 301-713-1193, Attn: Wesley Patrick.

• Mail: Wesley Patrick; National Marine Fisheries Service, NOAA; 1315 East-West Highway, Room 13436; Silver Spring, MD 20910.

Instructions: Comments must be submitted by one of the above methods to ensure that the comments are received, documented, and considered by NMFS. Comments sent by any other method, to another address or individual, or received after the end of the comment period, may not be considered. All comments received are part of the public record and will generally be posted for public viewing on www.regulations.gov without change. All personal identifying information (e.g., name, address, etc.) submitted voluntarily by the sender will be publicly accessible. Do not submit confidential business information or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Wesley Patrick, Fisheries Policy Analyst, National Marine Fisheries Service, 301-427-8566.

SUPPLEMENTARY INFORMATION:

Background

On May 3, 2012, NMFS published an ANPR (77 FR 26238) to provide background information and to request public comment on potential adjustments to the National Standard 1 Guidelines. The ANPR provides the public with a formal opportunity to comment on the specific ideas mentioned in the ANPR, as well as any additional ideas and solutions that could improve provisions of the National Standard 1 Guidelines.

NMFS received a request from the Western Pacific Regional Fishery Management Council on behalf of all eight regional councils, to extend the comment period on the ANPR to September 15, 2012, to give the Councils more time to discuss the issues in the ANPR with their advisors, fishing industries and among themselves, in order to provide NMFS with comprehensive and significant comments on the ANPR. NMFS has considered this request and concludes that a 45-day extension is appropriate.

Authority: 16 U.S.C. 1801 et seq.

Dated: June 27, 2012.
Samuel D. Rauch III,
Deputy Assistant Administrator for Regulatory Programs, Performing the Functions and Duties of the Assistant Administrator for Fisheries, National Marine Fisheries Service.

[FR Doc. 2012-16343 Filed 7-2-12; 8:45 am]

BILLING CODE 3510-22-P